DEPARTMENT OF COMMERCE

International Trade Administration

North American Free Trade Agreement (NAFTA), Article 1904; Binational Panel Reviews: Notice of Completion of Panel Review

AGENCY: United States Section, NAFTA Secretariat, International Trade Administration, Department of Commerce.

ACTION: Notice of Completion of Panel Review in the matter of Certain Fabricated Structural Steel from Mexico; Final Negative Injury Determination (Secretariat File Number: USA-MEX-2020-1904-04).

SUMMARY: The NAFTA Secretariat has received a consent motion filed on behalf of the Full Member Subgroup of the American Institute of Steel Construction, LLC, requesting the termination of panel review in the Certain Fabricated Structural Steel from Mexico; Final Negative Injury Determination (Fabricated Structural Steel from Mexico IN) dispute. Given all the participants have agreed to the termination of panel review in this consent motion, and pursuant to Rule 71(2) of the NAFTA Rules of Procedure for Article 1904 Binational Panel Reviews (Rules), the Fabricated Structural Steel from Mexico IN dispute has been terminated. As a result, and in accordance with Rule 78(a), notice is hereby given that panel review of the Fabricated Structural Steel from Mexico IN dispute has been completed effective September 28, 2023.

FOR FURTHER INFORMATION CONTACT: Vidya Desai, United States Secretary, NAFTA Secretariat, Room 2061, 1401 Constitution Avenue NW, Washington, DC 20230, (202) 482-5438.

SUPPLEMENTARY INFORMATION: Chapter 19 of article 1904 of NAFTA provides a dispute settlement mechanism involving trade remedy determinations issued by the government of the United States, the government of Canada, and the government of Mexico. There are established Rules, which were adopted by the three governments and require Notices of Completion of Panel Review to be published in accordance with Rule 78. For the complete Rules, please see https://www.nafta-sec-alena.org/Home/Texts-of-the-Agreement/Rules-of-Procedure/Article-1904.

Dated: September 29, 2023.
Vidya Desai,
U.S. Secretary, NAFTA Secretariat.

[FR Doc. 2023-21993 Filed 10-3-23; 8:45 am]

BILLING CODE 3510-GT-P